DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 1/19/2011 Through 2/3/2011
Firm name | Address | Date accepted for investigation | Products
American Disposables, Inc | 6 East Main Street, Ware, MA 01082 | 21-Jan-11 | The firm manufactures disposable hospital pads as well as housebreaking pads for pets.
Awning Canopy Systems, Inc | 201 Industrial Park Place, Cassville, MO 65625-0906 | 01-Feb-11 | The firm manufactures awnings, walkway covers, kiosk buildings, entrance canopies, aluminum composite wall panels, and steel bridges.
Baker Road Furniture Corporation | 730 Schneider Drive, South Elgin, IL 60177 | 01-Feb-11 | The firm manufactures products such as home office furniture, bookcases, bedroom furniture, and entertainment furniture.
Boathouse Row Sports, Ltd | 425 East Hunting Park Avenue, Philadelphia, PA 19124 | 19-Jan-11 | The firm manufactures outerwear, sublimated uniforms, and training gear.
Hiwasse Manufacturing Company, Inc | 1030 N. Redmond Road, Jacksonville, AR 72076-3656 | 26-Jan-11 | The firm manufactures appliance and automotive decorative trim metal, graphic panels, inserts, nameplates, escutcheons, tags and labels.
L.A. Najarian, Inc | 17 Willard Street, PO Box 614, Greene, NY 13778 | 01-Feb-11 | The firm manufactures custom run narrow fabric ribbon for a wide variety of industries.
Rosewood Industries, Inc | 1203 E. Central Terrace, Stigler, OK 74462 | 24-Jan-11 | The firm manufactures wooden case goods including kitchen cabinets, vanities, and other utility spaces.
Smith Sport Optics, Inc | 1 Freeport Center; Building F-13, Clearfield, UT 84016 | 26-Jan-11 | The firm manufactures sun, safety, industrial and underwater goggles.

Any party having a substantial interest in these proceedings may request a public hearing on the matter.

A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: February 3, 2011.
Miriam Kearse,
Eligibility Certifier.

[FR Doc. 2011-2838 Filed 2-8-11; 8:45 am]

BILLING CODE 3510-24-P